OFFICE OF PERSONNEL MANAGEMENT

5 CFR Part 532

RIN 3206-AI95

Prevailing Rate Systems; Redefinition of the Southern and Western Colorado Appropriated Fund Wage Area

AGENCY: Office of Personnel Management.

ACTION: Final rule.

SUMMARY: The Office of Personnel Management is issuing a final rule to remove Eagle, Garfield, Lake, Pitkin, Rio Blanco, and Routt Counties, Colorado, from the Southern and Western Colorado appropriated fund Federal Wage System (FWS) wage area. These counties will now be in the Denver wage area. We are also removing Mesa County, CO, from the Southern and Western Colorado FWS wage area and adding it to the Utah FWS wage area. These changes more accurately reflect the regulatory criteria we use to define FWS wage areas. Finally, we are changing the name of the Southern and Western Colorado FWS wage area to the Southern Colorado FWS wage area to more accurately describe the geographic coverage of the redefined wage area.

DATES: Effective Date: This regulation is effective on June 5, 2000. Applicability Date: This regulation applies on the first day of the first applicable pay period beginning on or after June 5, 2000.

FOR FURTHER INFORMATION CONTACT: Jennifer Hopkins by phone at (202) 606-2848, by FAX at (202) 606-0824, or by email at jdhopkin@opm.gov.

SUPPLEMENTARY INFORMATION: On December 27, 1999, the Office of Personnel Management (OPM) published a proposed rule (64 FR 72292) to remove Eagle, Garfield, Lake, Pitkin, Rio Blanco, and Routt Counties, Colorado, from the Southern and Western Colorado appropriated fund FWS wage area and add them to the Denver FWS wage area as areas of application. We do not conduct wage surveys in areas of application. Instead, we apply the results that we obtain from surveys in the other counties in the applicable wage area. We also proposed to remove Mesa County, CO, from the Southern and Western Colorado FWS wage area and add it to the Utah FWS wage area as an area of application. Finally, we proposed to change the name of the Southern and Western Colorado FWS wage area to Southern Colorado.

Under section 5343 of title 5, United States Code, OPM is responsible for defining FWS wage areas. For this purpose, we follow the regulatory criteria in section 532.211 of title 5, Code of Federal Regulations. The Southern and Western Colorado wage area meets all of the regulatory requirements to remain a separate wage area. About 1,800 FWS employees currently work in this wage area. The wage area's host activity, the United States Air Force Academy, has the capability to host annual local wage surveys. In addition, we find more than sufficient local private industry wage data in local wage surveys of the Southern and Western Colorado wage area to satisfy our regulatory requirements.

We are moving Eagle, Garfield, Lake, Pitkin, Rio Blanco, and Routt Counties to the Denver wage area based on our analysis of the regulatory criteria. The distance criterion for these counties favors the Denver wage area more than the Southern and Western Colorado wage area. The transportation facilities and geographic features criteria for these counties strongly favor the Denver wage area because the most favorable route by road from these counties goes through the present Denver wage area before reaching the Southern and Western Colorado survey area. All the other criteria we studied did not favor one wage area more than another.

For Mesa County, CO, the distance to the closest city criterion favors the Utah wage area, while the distance to the closest host installation criterion favors the Denver wage area. The transportation facilities and geographic features criteria favor the Utah wage area. The kinds and sizes of industry and population criteria also favor the Utah wage area. All of the other criteria we studied had indeterminate findings. Colorado National Monument, located in Mesa County, is administratively in the same National Park Service region as most of the National Parks in Utah. Arches National Park is in the Utah wage area and is just across the State line from Colorado National Monument. We are placing Colorado National Monument in the same wage area as Arches National Park because of the organizational relationships and geographic proximity of National Park Service facilities in this region.

The Federal Prevailing Rate Advisory Committee, the national labor-management committee responsible for advising OPM on matters concerning the pay of FWS employees, reviewed and recommended these changes by consensus. The proposed rule had a 30-day public comment period, during which OPM did not receive any comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

Office of Personnel Management.
Janice R. Lachance,
Director.

Accordingly, the Office of Personnel Management amends 5 CFR part 532 as follows:

PART 532—PREVAILING RATE SYSTEMS

1. The authority citation for part 532 continues to read as follows:

Authority: 5 U.S.C. 5343, 5346; § 532.707 also issued under 5 U.S.C. 552.

2. Appendix A to subpart B of part 532 is amended for the State of Colorado by revising the wage area “Southern & Western Colorado” to read “Southern Colorado”.

3. Appendix C to subpart B is amended by revising the wage area listings for the States of Colorado and Utah, to read as follows:

Appendix C to Subpart B of Part 532—Appropriated Fund Wage and Survey Areas

* * * * *

Colorado

Denver

Survey Area

Colorado:

Adams

Arapahoe

Boulder

Denver

Douglas

Gilpin

Jefferson

Area of Application. Survey area plus:

Colorado:

Clear Creek

Eagle

Elbert

Garfield

Grand

Jackson

Lake

Larimer

Logan

Morgan

Park

Phillips

Pitkin

Rio Blanco

Routt

Sedgwick

Summit

Washington

Weld

Yuma

Southern Colorado

Survey Area

Colorado:

El Paso

Pueblo

Teller

Area of Application. Survey area plus:

Colorado:

Alamosa

Archuleta

Baca

Bent

Chaffee

Cheyenne

Conejos

Costilla

Crowley

Custer

Delta

Dolores

Fremont

Gunnison

Hinsdale

Huerfano

Kiowa

Kit Carson

Las Animas

Lincoln

Mineral

Montrose

Otero

Ouray

Pitkin

Prowers

Rio Grande

Saguache

San Juan

San Miguel

* * * * *

Utah

Survey Area

Utah:

Box Elder

Davis

Salt Lake

Tooele

Utah

Weber

Area of Application. Survey area plus:

Utah:

Beaver

Cache

Carbon

Daggett

Duchesne

Emery

Garfield

Grand

Iron

Juab

Millard

Morgan

Piute

Rich

San Juan (Only includes the Canyonlands National Park portion.)

Sanpete

Sevier

Summit

Uintah

Wasatch

Washington

Wayne

Colorado:

Mesa

Moffat

* * * * *

[FR Doc. 00-11199 Filed 5-4-00; 8:45 am]

BILLING CODE 6325-01-P